DEPARTMENT OF COMMERCE

National Oceanic and Atmospheric Administration

RIN 0648-XV099

North Pacific Fishery Management Council; Public Meeting

AGENCY: National Marine Fisheries Service (NMFS), National Oceanic and Atmospheric Administration (NOAA), Commerce.

ACTION: Notice of public meeting of the North Pacific Fishery Management Council's Charter Halibut Management Committee.

SUMMARY: The North Pacific Fishery Management Council (Council) Charter Halibut Management Committee will meet October 29, 2019.

DATES: The meeting will be held on Tuesday, October 29, 2019, from 10:30 a.m. to 4 p.m., Alaska Standard Time.

ADDRESSES: The meeting will be held in the Old Federal Building, 605 W 4th Ave., Suite 205, Anchorage, AK 99501-2252. Teleconference line: (907) 271-2896.

Council address: North Pacific Fishery Management Council, 605 W 4th Ave., Suite 306, Anchorage, AK 99501-2252; telephone: (907) 271-2809.

FOR FURTHER INFORMATION CONTACT: Steve MacLean, Council staff; telephone: (907) 271-2809.

SUPPLEMENTARY INFORMATION:

Agenda

Tuesday, October 29, 2019

The purpose of the Charter Halibut Management Committee meeting is to identify a range of potential management measures for the Area 2C and Area 3A charter halibut fisheries in 2020 using the management measures in place for 2019 as a baseline. For Area 2C, the baseline management measure includes regulations applicable to charter halibut fishing in all areas, and a daily limit of one fish less than or equal to 38 inches or greater than or equal to 80 inches. For Area 3A, the baseline management measure includes regulations applicable to charter halibut fishing in all areas, and an annual limit of 4 fish, a daily limit of two fish one fish of any size, and a second fish which must be 28 inches or less in length. No charter halibut fishing on Wednesdays, all year, and no charter halibut fishing on July 16, July 23, July 30, August 6, and August 13. Committee recommendations will be incorporated into an analysis for committee and Council review in December 2019. The Council will recommend preferred management measures for consideration by the International Pacific Halibut commission at its January 2020 meeting, for implementation in 2020.

Meeting materials will be available on the Council's online agenda portal at https://meetings.npfmc.org/Meeting/Details/983. The Agenda is subject to change, and the latest version will be posted at: https://meetings.npfmc.org/.

Public Comment

Public comment letters will be accepted and should be submitted by Monday, October 28, 2019 via the Council's electronic agenda platform at https://meetings.npfmc.org/Meeting/Details/983. In-person oral public testimony will be accepted at the discretion of the Chair.

Special Accommodations

The meeting is physically accessible to people with disabilities. Requests for sign language interpretation or other auxiliary aids should be directed to Maria Davis at (907) 271-2809 at least 7 working days prior to the meeting date.

Authority: 16 U.S.C. 1801 et seq.

Dated: October 3, 2019.
Tracey L. Thompson,
Acting Deputy Director, Office of Sustainable Fisheries, National Marine Fisheries Service.

[FR Doc. 2019-21900 Filed 10-7-19; 8:45 am]

BILLING CODE 3510-22-P